ENVIRONMENTAL PROTECTION AGENCY

[FRL-7607-2]

Air Pollution Control; Proposed Administrative Action on Clean Air Act Grant to the Puerto Rico Environmental Quality Board

AGENCY: Environmental Protection Agency (EPA).

ACTION: Proposed administrative action to revoke grant with request for comments and notice of opportunity for public hearing.

SUMMARY: Section 105(c)(1) of the Clean Air Act (CAA), 42 U.S.C. 7405(c)(1), provides that “[n]o [air pollution control] agency shall receive any grant under this section during any fiscal year when its expenditures of non-Federal funds for recurrent expenditures for air pollution control programs [maintenance of effort or MOE level] will be less than its expenditures were for such programs during the preceding fiscal year.” Although the Puerto Rico Environmental Quality Board (PREQB) has successfully completed its Fiscal Year 2002 air pollution control program, PREQB is unable to demonstrate that it has satisfied the statutory maintenance of effort requirement for its Fiscal Year 2002 Clean Air Act section 105 grant. Since PREQB did not satisfy the statutory requirement for the maintenance of effort for Fiscal Year 2002, EPA intends to revoke PREQB's Fiscal Year 2002 Clean Air Act section 105 grant. Pursuant to section 105(e) of the CAA, the EPA is providing prior notice of its intent to revoke PREQB's Fiscal Year 2002 Clean Air Act section 105 grant. The proposed administrative action does not otherwise impact the air pollution control program already carried out by PREQB during Fiscal Year 2002, which ended on September 30, 2002. When the proposed action is final, PREQB will be eligible to receive future CAA Section 105 grants to support its air pollution control program.

DATES: Comments and/or requests for a public hearing must be received by EPA at the address stated below by February 4, 2004.

ADDRESSES: Comments may be submitted either by mail or electronically. Written comments should be mailed to Carl-Axel Soderberg, Director, Caribbean Environmental Protection Division, United States Environmental Protection Agency—Region 2, Centro Europa Building, 1492 Ponce de Leon Avenue, Suite 417, Santurce, Puerto Rico 00907-4127. Electronic comments could be sent either to soderberg.carl@epa.gov or to http://www.regulations.gov, which is an alternative method for submitting electronic comments to EPA. Go directly to http://www.regulations.gov, then select “Environmental Protection Agency” at the top of the page and use the “go” button. Please follow the on-line instructions for submitting comments.

FOR FURTHER INFORMATION CONTACT: Carl-Axel Soderberg, Director, Caribbean Environmental Protection Division, United States Environmental Protection Agency—Region 2, Centro Europa Building, 1492 Ponce de Leon Avenue, Suite 417, Santurce, Puerto Rico 00907-4127, Telephone: (787) 977-5814, Email Address: soderberg.carl@epa.gov FAX: (787) 289-7982.

SUPPLEMENTARY INFORMATION: The EPA's implementing regulations at 40 CFR 35.146(a) reiterate the CAA section 105(c)(1) MOE requirement.

This notice constitutes a request for public comment and an opportunity for public hearing as required by the Clean Air Act and EPA's implementing regulations at 40 CFR 35.148(b). All written comments received by February 4, 2004 on this proposal will be considered. EPA will conduct a public hearing on this proposal if EPA finds, on the basis of written requests for a public hearing, that the issues raised are substantial or a significant degree of public interest in this proposal has been expressed; written requests for a hearing must be received by EPA at the address above by February 4, 2004.

If no written request for a hearing is received or if EPA determines that the issues raised are insubstantial or no significant degree of public interest in this proposed action has been expressed, EPA will proceed to the final action on this grant.

Dated: December 24, 2003.
Kathleen Callahan,
Acting Regional Administrator, Region 2.

[FR Doc. 04-84 Filed 1-2-04; 8:45 am]

BILLING CODE 6560-50-U